DEPARTMENT OF THE INTERIOR

National Park Service

Notice of Inventory Completion: University of Oregon, Oregon State Museum of Anthropology, Eugene, OR

AGENCY: National Park Service, Interior.

ACTION: Notice.

Notice is here given in accordance with the Native American Graves Protection and Repatriation Act (NAGPRA), 25 U.S.C. 3003, of the completion of an inventory of human remains in the possession of the University of Oregon, Oregon State Museum of Anthropology, Eugene, OR. The human remains were removed from an unknown site in Oregon.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Oregon State Museum of Anthropology professional staff in consultation with representatives of the Confederated Tribes of the Siletz Reservation, Oregon.

At an unknown date, human remains representing one individual were removed from an unknown site in Oregon. The human remains were donated to the museum by a private donor. No known individual was identified. No associated funerary objects are present.

The human remains are determined to be Native American based on skeletal evidence. According to museum records, the human remains are that of a “Siletz Indian.” No other documentation is available. Based on this information, the human remains are reasonably believed to be Siletz. The Siletz are represented by the Confederated Tribes of the Siletz Reservation, Oregon.

Officials of the Oregon State Museum of Anthropology have determined that, pursuant to 25 U.S.C. 3001 (9-10), the human remains described above represent the physical remains of one individual of Native American ancestry. Officials of the Oregon State Museum of Anthropology also have determined that, pursuant to 25 U.S.C. 3001 (2), there is a relationship of shared group identity that can be reasonably traced between the Native American human remains and the Confederated Tribes of the Siletz Reservation, Oregon.

Representatives of any other Indian tribe that believes itself to be culturally affiliated with the human remains should contact Pamela Endzweig, Director of Collections, Oregon State Museum of Anthropology, 1224 University of Oregon, Eugene, OR 97403-1224, telephone (541) 346-5120, before December 26, 2008. Repatriation of the human remains to the Confederated Tribes of the Siletz Reservation, Oregon may proceed after that date if no additional claimants come forward.

Oregon State Museum of Anthropology is responsible for notifying the Confederated Tribes of the Siletz Reservation, Oregon that this notice has been published.

Dated: October 23, 2008
Sherry Hutt,
Manager, National NAGPRA Program.

[FR Doc. E8-28007 Filed 11-24-08; 8:45 am]

BILLING CODE 4312-50-S